SMALL BUSINESS ADMINISTRATION

[Disaster Declaration # 10029 and # 10030]

Ohio Disaster # OH-00002 Disaster Declaration

AGENCY: U.S. Small Business Administration.

ACTION: Notice.

SUMMARY: This is a Notice of the Presidential declaration of a major disaster for the State of Ohio (FEMA-1580-DR), dated February 15, 2005.

Incident: Severe Winter Storms, Flooding, and Mudslides.

Incident Period: December 22, 2004 through February 1, 2005.

DATES: Effective Date: February 15, 2005.

Physical Loan Application Deadline Date: April 18, 2005.

EIDL Loan Application Deadline Date: November 15, 2005.

ADDRESSES: Submit completed loan applications to: U.S. Small Business Administration, Disaster Area Office 1, 360 Rainbow Blvd. South 3rd Floor, Niagara Falls, NY 14303.

FOR FURTHER INFORMATION CONTACT: Alan Escobar, Office of Disaster Assistance, U.S. Small Business Administration, 409 3rd Street, Suite 6050, Washington, DC 20416.

SUPPLEMENTARY INFORMATION: Notice is hereby given that as a result of the President's major disaster declaration on February 15, 2005, applications for disaster loans may be filed at the address listed above or other locally announced locations.

The following areas have been determined to be adversely affected by the disaster:

Primary Counties

Athens, Belmont, Clark, Coshocton, Crawford, Delaware, Franklin, Henry Jefferson, Logan, Morgan, Muskingum, Pickaway, Pike, Ross, Scioto, Warren and Washington

Contiguous Counties

Ohio

Adams, Auglaize, Butler, Carroll, Champaign, Clermont, Clinton, Columbiana, Defiance, Fairfield, Fayette, Fulton, Greene, Guernsey, Hamilton, Hancock, Hardin, Harrison, Highland, Hocking, Holmes, Huron, Jackson, Knox, Lawrence, Licking, Lucas, Madison, Marion, Meigs, Miami, Monroe, Montgomery, Morrow, Noble, Perry, Putnam, Richland, Seneca, Shelby, Tuscarawas, Union, Vinton, Williams, Wood, and Wyandot.

Kentucky

Greenup and Lewis.

West Virginia

Brooke, Hancock, Marshall, Ohio, Pleasants, Tyler, and Wood.

The Interest Rates are:

| Percent
Homeowners with credit available elsewhere | 5.875
Homeowners without credit available elsewhere | 2.937
Businesses with credit available elsewhere | 5.800
Businesses and small agricultural cooperatives without credit available elsewhere | 4.000
Other (Including Non-Profit Organizations) with credit available elsewhere | 4.750
Businesses and Non-Profit Organizations without credit available elsewhere | 4.000

The number assigned to this disaster for physical damage is 100296 and for economic injury is 100300.

(Catalog of Federal Domestic Assistance Numbers 59002 and 59008)
Cheri L. Cannon,
Acting Associate Administrator for Disaster Assistance.

[FR Doc. 05-3817 Filed 2-25-05; 8:45 am]

BILLING CODE 8025-01-P